DEPARTMENT OF DEFENSE

Office of the Secretary

President's Information Technology Advisory Committee (PITAC)

ACTION: Notice of meeting.

SUMMARY: PITAC's Subcommittee on Cyber Security will provide an update of its activities and present its draft findings and recommendations. PITAC will discuss the Subcommittee's presentation and provide guidance for use in the completion of PITAC's report on cyber security. Public input will be solicited during a public comment period. A small fraction of the meeting time may be allocated for other PITAC updates at the discretion of the co-chairs and the designated Federal officer.

DATES: Friday, November 19, 2004, 3-5:30 p.m. Eastern Time.

ADDRESSES: Via teleconference, the Internet, or at the Grand Hyatt Hotel, 1000 H Street, NW., Washington, DC 20001.

SUPPLEMENTARY INFORMATION: This meeting will be held primarily via a teleconference and the Internet (through the WebEx application). In addition, the public is invited to participate in this meeting in-person at the Grand Hyatt Hotel in Washington, DC. Detailed information about this meeting, including the agenda and details concerning registration for in-person or remote participation, will be posted at PITAC's Web site (http://www.nitrd.gov/pitac) no later than November 3rd. Meeting information may also be obtained by calling 703-292-4873.

Members of the public who wish to participate using the Internet (WebEx) must register by Tuesday, November 16th, 5 p.m. Eastern Time.

FOR FURTHER INFORMATION CONTACT: Contact Alan Inouye at the National Coordination Office for Information Technology Research and Development at 703-292-4873 or by e-mail at inouye@nitrd.gov.

Dated: October 28, 2004.
Jeannette Owings-Ballard,
OSD Federal Register Liaison Officer, Department of Defense.

[FR Doc. 04-24473 Filed 11-5-04; 8:45 am]

BILLING CODE 5001-06-P